DEPARTMENT OF COMMERCE

International Trade Administration

[A-533-817, A-560-805, A-580-836]

Certain Cut-To-Length Carbon-Quality Steel Plate From India, Indonesia, and the Republic of Korea: Final Results of the Expedited Sunset Reviews of the Antidumping Duty Orders

AGENCY: Enforcement and Compliance, International Trade Administration, Commerce.

SUMMARY: As a result of these sunset reviews, the Department of Commerce (the Department) finds that revocation of the antidumping duty (AD) orders on certain cut-to-length carbon-quality steel plate (CTL plate) from India, Indonesia, and the Republic of Korea (Korea) would be likely to lead to continuation or recurrence of dumping at the levels indicated in the “Final Results of Sunset Reviews” section of this notice.

DATES: Effective April 24, 2017.

FOR FURTHER INFORMATION CONTACT: Terre Keaton Stefanova, AD/CVD Operations, Office II, Enforcement and Compliance, International Trade Administration, U.S. Department of Commerce, 1401 Constitution Avenue NW., Washington, DC 20230; telephone: (202) 482-1280.

SUPPLEMENTARY INFORMATION:

Background

On December 1, 2016, the Department published the notice of initiation of the sunset reviews of the AD Orders ¹ on CTL plate from India, Indonesia, and Korea, pursuant to section 751(c) of the Tariff Act of 1930, as amended (the Act).² On December 8, 13, and 16, 2016, respectively, ArcelorMittal USA, Inc. (AMUSA), Nucor Corporation (Nucor), and SSAB Enterprises LLC (SSAB), (collectively, the petitioners or the domestic interested parties), notified the Department of their intent to participate within the 15-day period specified in 19 CFR 351.218(d)(1)(i).³ Each of the domestic parties claimed interested party status under section 771(9)(C) of the Act stating that they are each producers in the United States of a domestic like product.

¹ See Notice of Amendment of Final Determinations of Sales at Less Than Fair Value and Antidumping Duty Orders: Certain Cut-To-Length Carbon-Quality Steel Plate Products From France, India, Indonesia, Italy, Japan, and the Republic of Korea, 65 FR 6585 (February 10, 2000) (collectively, Orders).

² See Initiation of Five-Year (“Sunset”) Reviews, 81 FR 86697 (December 1, 2016) (Notice of Initiation).

³ See AMUSA's December 13, 2016, submission “Five-Year (“Sunset”) Review of the Antidumping and Countervailing Duty Orders on Certain Cut-to-Length Carbon-Quality Steel Plate From India, Indonesia, and South Korea—AMUSA's Notice of Intent to Participate.” See also Nucor's December 16, 2016, submissions “Certain Cut-to-Length Carbon-Quality Steel Plate from India: Notice of Intent to Participate in Sunset Review,” “Certain Cut-to-Length Carbon-Quality Steel Plate from Indonesia: Notice of Intent to Participate in Sunset Review,” and “Certain Cut-to-Length Carbon-Quality Steel Plate from the Republic of Korea: Notice of Intent to Participate in Sunset Review.” See also, SSAB's December 8, 2016, submissions “Certain Cut-to-Length Carbon-Quality Steel Plate from India, Third Sunset Review,” “Certain Cut-to-Length Carbon-Quality Steel Plate from Indonesia, Third Sunset Review,” and “Certain Cut-to-Length Carbon-Quality Steel Plate from Korea, Third Sunset Review.”

On January 3, 2017, the Department received complete substantive responses to the Notice of Initiation from the domestic interested parties within the 30-day deadline specified in 19 CFR 351.218(d)(3)(i).⁴ We received no substantive responses from respondent interested parties with respect to these sunset reviews of the orders on CTL plate from India, Indonesia, or Korea, nor was a hearing requested. As a result, pursuant to section 751(c)(3)(B) of the Act and 19 CFR 351.218(e)(1)(ii)(C)(2), the Department conducted expedited (120-day) sunset reviews of the AD Orders on CTL plate from India, Indonesia, and Korea.

⁴ See the domestic interested parties' January 3, 2017, submissions “Certain Cut-to-Length Carbon-Quality Steel Plate from India,” “Five-Year (“Sunset”) Review of the Antidumping Order on Certain Cut-To-Length Carbon-Quality Steel Plate From Indonesia—Substantive Response to Notice of Initiation,” and “Cut-to-Length Carbon-Quality Steel Plate from the Republic of Korea: Substantive Response to Notice of Initiation.”

Scope of the Orders

The products covered under the Orders are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of the Orders are of rectangular, square, circular or other shape and of rectangular or non-rectangular cross-section where such non-rectangular cross-section is achieved subsequent to the rolling process (i.e., products which have been “worked after rolling”)—for example, products which have been beveled or rounded at the edges. Steel products that meet the noted physical characteristics that are painted, varnished or coated with plastic or other non-metallic substances are included within the scope. Also, specifically included in the scope of the Orders are high strength, low alloy (HSLA) steels. HSLA steels are recognized as steels with micro-alloying levels of elements such as chromium, copper, niobium, titanium, vanadium, and molybdenum.

The merchandise subject to the Orders is currently classifiable in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000. Although the HTSUS subheadings are provided for convenience and customs purposes, the written description of the merchandise covered by the Orders is dispositive.

The Issues and Decision Memorandum, which is hereby adopted by this notice, provides a full description of the scope of the Orders.⁵

⁵ See the Department's memorandum from Gary Taverman, Associate Deputy Assistant Secretary for Antidumping and Countervailing Duty Operations, to Ronald K. Lorentzen, Acting Assistant Secretary for Enforcement and Compliance, “Issues and Decision Memorandum for the Expedited Third Sunset Reviews of the Antidumping Duty Orders on Certain Cut-to-Length Carbon-Quality Steel Plate from India, Indonesia, and the Republic of Korea,” dated concurrently with this notice (Issues and Decision Memorandum).

Analysis of Comments Received

A complete discussion of all issues raised in these reviews is provided in the accompanying Issues and Decision Memorandum. The issues discussed in the Issues and Decision Memorandum include the likelihood of continuation or recurrence of dumping and the magnitude of the margin of dumping that is likely to prevail if the Orders were revoked. The Issues and Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Issues and Decision Memorandum can be accessed at http://enforcement.trade.gov/frn/. The signed Issues and Decision Memorandum and the electronic version of the Issues and Decision Memorandum are identical in content.

Final Results of Reviews

Pursuant to sections 751(c)(1) and 752(c)(1) and (3) of the Act, the Department determines that revocation of the AD Orders on CTL plate from India, Indonesia, and Korea would be likely to lead to continuation or recurrence of dumping, and that the magnitude of the margin of dumping that is likely to prevail would be at rates up to 42.39 percent for India, up to 52.42 percentage for Indonesia, and up to 4.64 percent for Korea.

Administrative Protective Orders

This notice serves as the only reminder to parties subject to administrative protective orders (APO) of their responsibility concerning the return or destruction of proprietary information disclosed under APO in accordance with 19 CFR 351.305(a). Timely written notification of the return or destruction of APO materials or conversion to judicial protective orders is hereby requested. Failure to comply with the regulations and terms of an APO is a violation which is subject to sanction.

Notification to Interested Parties

We are issuing and publishing the results of the reviews and this notice in accordance with sections 751(c), 752(c), and 777(i)(1) of the Act and 19 CFR 351.218(f)(4).

Dated: March 31, 2017.
Ronald K. Lorentzen,
Acting Assistant Secretary for Enforcement and Compliance.

[FR Doc. 2017-08174 Filed 4-21-17; 8:45 am]

BILLING CODE 3510-DS-P